DEPARTMENT OF LABOR

Employment and Training Administration

[TA-W-58,363]

Thomasville Furniture Industries Corporate Office Including On-Site Workers of Furniture Brands International, Thomasville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 29, 2005, applicable to workers of Thomasville Furniture Industries, Corporate Office, Thomasville, North Carolina. The notice was published in the Federal Register on January 17, 2006 (71 FR 2568).

At the request of a company official, the Department reviewed the certification for workers of the subject firm. The workers provide a variety of support services, including benefits administration, translation, accounting, supply chain management and payroll.

New information shows that workers of Furniture Brands International, parent company of the subject firm, were employed on-site at the Corporate Office, Thomasville, North Carolina location of Thomasville Furniture Industries. These workers provided various design functions supporting the subject firm.

Based on these findings, the Department is amending this certification to include workers of Furniture Brands International working on-site at the Corporate Office, Thomasville, North Carolina location of the subject firm.

The intent of the Department's certification is to include all workers employed at Thomasville Furniture Industries, Corporate Office, Thomasville, North Carolina who were adversely affected by an increase in imports following a shift in production to China.

The amended notice applicable to TA-W-58,363 is hereby issued as follows:

All workers of Thomasville Furniture Industries, Corporate Office, including on-site workers of Furniture Brands International, Thomasville, North Carolina, who became totally or partially separated from employment on or after March 11, 2005, through December 29, 2007, are eligible to apply for adjustment assistance under Section 223 of the Trade Act of 1974, and are also eligible to apply for alternative trade adjustment assistance under Section 246 of the Trade Act of 1974.

Signed at Washington, DC, this 4th day of January 2008.
Richard Church,
Certifying Officer, Division of Trade Adjustment Assistance.

[FR Doc. E8-587 Filed 1-15-08; 8:45 am]

BILLING CODE 4510-FN-P